DEPARTMENT OF COMMERCE

International Trade Administration, North American Free-Trade Agreement (NAFTA), Article 1904 Binational Panel Reviews

AGENCY: NAFTA Secretariat, United States Section, International Trade Administration, Department of Commerce.

ACTION: Notice of decision of panel.

SUMMARY: On October 11, 2013, the NAFTA Chapter 19 binational panel issued its decision in the review of the final results of the 2011 antidumping administrative review made by the Mexican Ministry of Economy, with respect to Certain Types of Stearic Acid from the United States, irrespective of the country of shipment (NAFTA Secretariat File Number MEX-2011-1904-01). The binational panel affirmed the Mexican Ministry of Economy's final determination regarding this matter. Copies of the panel's decision in English and Spanish are available from the U.S. Section of the NAFTA Secretariat.

FOR FURTHER INFORMATION CONTACT: Ellen M. Bohon, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Dated: October 22, 2013.
Ellen M. Bohon,
U.S. Secretary, NAFTA Secretariat.

[FR Doc. 2013-26631 Filed 11-6-13; 8:45 am]

BILLING CODE 3510-GT-M